DEPARTMENT OF TRANSPORTATION

Federal Aviation Administration

Tenth Meeting: Tactical Operations Committee (TOC)

AGENCY: Federal Aviation Administration (FAA), U.S. Department of Transportation (DOT).

ACTION: Tenth meeting notice of Tactical Operations Committee.

SUMMARY: The FAA is issuing this notice to advise the public of the tenth meeting of the Tactical Operations Committee.

DATES: The meeting will be held July 21st from 9:00 a.m.-4:00 p.m.

ADDRESSES: The meeting will be held at RTCA Headquarters, 1150 18th Street NW., Suite 910, Washington, DC 20036, Tel: (202) 330-0655.

FOR FURTHER INFORMATION CONTACT: The RTCA Secretariat, 1150 18th Street NW., Suite 910, Washington, DC 20036, or by telephone at (202) 833-9339, fax at (202) 833-9434, or Web site at http://www.rtca.org or Trin Mitra, TOC Secretary, RTCA, Inc., tmitra@rtca.org, 202-330-0655.

SUPPLEMENTARY INFORMATION: Pursuant to section 10(a)(2) of the Federal Advisory Committee Act (Pub. L. 92-463, 5 U.S.C., App.), notice is hereby given for a meeting of the Tactical Operations Committee. The agenda will include the following:

Tuesday, July 21, 2015

1. Opening of Meeting/Introduction of TOC Members—Co Chairs Jim Bowman and Dale Wright

2. Official Statement of Designated Federal Official—Elizabeth Ray

3. Approval of May 20, 2015 Meeting Summary

4. Recommendation on NOTAM Search Phase 2 Implementation

5. Recommendation on GPS Adjacent Band Compatibility Exclusion Zones

6. Recommendation on Class B Airspace Design, Designation and Evaluation

7. Recommendation on Improving Safety and Operations in the Caribbean

8. Update on Airport Construction Task: Case Studies, Construction Process & Timeline

9. Update on National Procedure Assessment Initiative and Approval of TORs

10. Anticipated Issues for TOC consideration and action at the next meeting

11. Other business

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 23, 2015.
Latasha Robinson,
Management & Program Analyst, NextGen, Program Oversight and Administration, Federal Aviation Administration.

[FR Doc. 2015-15931 Filed 6-26-15; 8:45 am]

BILLING CODE 4910-13-P